DEPARTMENT OF TRANSPORTATION

Federal Aviation Administration

14 CFR Part 39

[Docket No. FAA-2005-20596; Directorate Identifier 2004-NM-113-AD]

RIN 2120-AA64

Airworthiness Directives; Saab Model SAAB SF340A and SAAB 340B Series Airplanes

AGENCY: Federal Aviation Administration (FAA), Department of Transportation (DOT).

ACTION: Notice of proposed rulemaking (NPRM).

SUMMARY: The FAA proposes to supersede an existing airworthiness directive (AD) that applies to certain Saab Model SAAB SF340A and SAAB 340B series airplanes. The existing AD currently requires repetitive detailed inspections of the windshield wiper assembly for discrepant conditions, and corrective actions if necessary. This proposed AD also would require a detailed inspection of the left and right wiper arm assemblies for damage, and corrective/related investigative actions if necessary. This proposed AD is prompted by an additional incident of a windshield wiper blade separating from the wiper arm. We are proposing this AD to prevent separation of a wiper arm from the airplane, which could result in damage to the fuselage skin and propeller.

DATES: We must receive comments on this proposed AD by April 14, 2005.

ADDRESSES: Use one of the following addresses to submit comments on this proposed AD.

• DOT Docket Web Site: Go to http://.dot.gov and follow the instructions for sending your comments electronically.

• Government-wide Rulemaking Web Site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Saab Aircraft AB, SAAB Aircraft Product Support, S-581.88, Linköping, Sweden.

You can examine the contents of this AD docket on the Internet at http://dms.dot.gov, or in person at the Docket Management Facility, U.S. Department of Transportation, 400 Seventh Street SW., room PL-401, on the plaza level of the Nassif Building, Washington, DC. This docket number is FAA-2005-20596; the directorate identifier for this docket is 2004-NM-113-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed under ADDRESSES. Include “Docket No. FAA-2005-20596; Directorate Identifier 2004-NM-113-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On September 14, 1998, we issued AD 98-20-11, amendment 39-10778 (63 FR 50755, September 23, 1998), for certain Saab Model SAAB SF340A and SAAB 340B series airplanes. That AD requires repetitive detailed visual inspections of the windshield wiper assembly for discrepant conditions, and corrective actions, if necessary. That AD was prompted by issuance of mandatory continuing airworthiness information by a foreign civil airworthiness authority. We issued that AD to prevent failure of the windshield wiper assembly, which could result in loss of visibility; or damage to the propeller(s), possible penetration of the fuselage skin, and consequent depressurization of the airplane.

Actions Since Existing AD Was Issued

Since we issued AD 98-20-11, the Luftfartsverket (LFV), which is the airworthiness authority for Sweden, has notified us that the unsafe condition of AD 98-11-20 may still exist on certain Saab Model SAAB SF340A and SAAB 340B series airplanes. The LFV advises that an additional incident of a windshield wiper blade separating from the wiper arm has occurred. The LFV advises that an extended inspection is needed to adequately address this unsafe condition. A wiper arm separating from the airplane, if not prevented, could result in damage to the fuselage skin and propeller.

Relevant Service Information

Saab has issued Service Bulletin 340-30-088, dated October 7, 2003. The service bulletin describes procedures for inspecting the left and right wiper arm assemblies for damage, and doing corrective/related investigative actions if necessary. The inspection includes the following:

• Inspecting the wiper arms for dents, warpage, or other deformities.

• Inspecting all riveted, brazed, or bonded assemblies for cracks, corrosion, proper alignment, and secure attachment.

• Ensuring that the arm tip is not loose.

• Removing the wiper arm assembly and inspecting the attachment area and attachment parts of the wiper arms for cracks, corrosion, stripped threads, and other damage.

The corrective/related investigative actions include the following:

• For wiper arm assemblies having part number (P/N) 2314M22-7 or -9, repairing the wiper arm if any rivet is missing, damaged, or corroded; or if a wiper arm tip is loose. The repair includes replacing a loose arm tip or rivets; inspecting the arm channel holes for cracks, damage, elongation, and any abnormalities; and measuring the arm channel holes and replacing the arm if necessary.

• Replacing a wiper arm if any of the following conditions are found: cracks or corrosion in the head of the pivot rivet; cracks or stripped threads in the hub area; damage to the serrations of the adjustment sleeve and hub; or cracks or corrosion in the attachment of the fluid dispensing tube if applicable.

• Replacing the retaining bolt and any other damaged components if the bolt is cracked or thread damage is found.

Accomplishing the actions specified in the service information is intended to adequately address the unsafe condition. The LFV mandated the service information and issued Swedish airworthiness directive 1-193, dated October 8, 2003, to ensure the continued airworthiness of these airplanes in Sweden.

FAA's Determination and Requirements of the Proposed AD

These airplane models are manufactured in Sweden and are type certificated for operation in the United States under the provisions of section 21.29 of the Federal Aviation Regulations (14 CFR 21.29) and the applicable bilateral airworthiness agreement. Pursuant to this bilateral airworthiness agreement, the LFV has kept the FAA informed of the situation described above. We have examined the LFV's findings, evaluated all pertinent information, and determined that AD action is necessary for airplanes of this type design that are certificated for operation in the United States.

This proposed AD would supersede AD 98-20-11. This proposed AD would retain the requirements of the existing AD. This proposed AD would also require accomplishing the actions specified in the service information described previously, except as discussed under “Difference Between the Proposed AD and Swedish Airworthiness Directive.”

Difference Between the Proposed AD and Swedish Airworthiness Directive

Although Swedish airworthiness directive 1-193 does not specifically cite a repetitive inspection interval for the extended detailed inspection, Swedish airworthiness directive 1-193 references Saab Service Bulletin 340-30-088, which recommends changing the inspection interval of Maintenance Review Board (MRB) Task No. 304302 from 4,000 flight hours to 800 flight hours. The service bulletin also recommends moving MRB Task No. 304302 from section B to section F, Airworthiness Limitations. We have determined that the unsafe condition of this proposed AD is better addressed by mandating repetitive inspections in this proposed AD, rather than by revising the Limitations sections of the MRB. Therefore, this proposed AD would require repetitive inspections at intervals not to exceed 800 flight hours.

Change to Existing AD

This proposed AD would retain all requirements of AD 98-20-11. Since AD 98-20-11 was issued, the AD format has been revised, and certain paragraphs have been rearranged. As a result, the corresponding paragraph identifiers have changed in this proposed AD, as listed in the following table:

Revised Paragraph Identifiers
Requirement in AD 98-20-11 | Corresponding requirement in this proposed AD
Paragraph (a) | Paragraph (f).

We have also changed all references to any “detailed visual inspection” in AD 98-20-11 to “detailed inspection” in this proposed AD and added a note to clarify the definition of a detailed inspection.

Costs of Compliance

The following table provides the estimated costs for U.S. operators to comply with this proposed AD.

Estimated Costs
Action | Work hours | Average labor rate per hour | Cost per airplane | Number of U.S.-registered airplanes | Fleet cost
Inspection (required by AD 98-20-11) | 1 | $65 | $65, per inspection cycle | 170 | $11,050, per inspection cycle.
Extended Inspection (new proposed action) | 1 | 65 | $65, per inspection cycle | 170 | $11,050 per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-10778 (63 FR 50755, September 23, 1998) and adding the following new airworthiness directive (AD):

Saab Aircraft AB: Docket No. FAA-2005-20596; Directorate Identifier 2004-NM-113-AD.

Comments Due Date

(a) The Federal Aviation Administration must receive comments on this AD action by April 14, 2005.

Affected ADs

(b) This AD supersedes AD 98-20-11, amendment 39-10778 (63 FR 50755, September 23, 1998).

Applicability: (c) This AD applies to Saab Model SAAB SF340A and SAAB 340B series airplanes, certificated in any category, as identified in Saab Service Bulletin 340-30-088, dated October 7, 2003.

Unsafe Condition

(d) This AD was prompted by an additional incident of a windshield wiper blade separating from the wiper arm. We are issuing this AD to prevent separation of a wiper arm from the airplane, which could result in damage to the fuselage skin and propeller.

Compliance: (e) You are responsible for having the actions required by this AD performed within the compliance times specified, unless the actions have already been done.

Requirements of AD 98-20-11:

(f) For Model SAAB SF340A series airplanes, manufacturer serial number (S/Ns) 004 through 159 inclusive and Model SAAB 340B series airplanes, manufacturer S/Ns 160 through 399 inclusive: Prior to the accumulation of 4,000 total flight hours, or within 3 months after October 28, 1998 (the effective date of AD 98-20-11), whichever occurs later, perform a detailed inspection of the windshield wiper assembly for discrepancies (corrosion; excessive wear; missing, loose, or broken parts; improper alignment; and insecure attachment), in accordance with Saab Service Bulletin 340-30-081, dated November 14, 1997, including Attachment 1, Revision 1, dated September 14, 1997.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(1) If no discrepancy is detected during the inspection, repeat the inspection thereafter at intervals not to exceed 4,000 flight hours until the inspection required by paragraph (g) of this AD is accomplished.

(2) If any discrepancy is detected during any inspection, prior to further flight, replace the windshield wiper assembly with a new or serviceable windshield wiper assembly, or repair in accordance with Saab Service Bulletin 340-30-081, dated November 14, 1997, including Attachment 1, Revision 1, dated September 14, 1997. Repeat the detailed inspection thereafter at intervals not to exceed 4,000 flight hours, until the inspection required by paragraph (g) of this AD is accomplished.

New Requirements of This AD:

Detailed Inspection of Wiper Arm Assemblies

(g) For all airplanes: Within 6 months after the effective date of this AD, do a detailed inspection of the left and right wiper arm assemblies for damage and any applicable corrective/investigative actions, by doing all of the actions specified in the Accomplishment Instructions of Saab Service Bulletin 340-30-088, dated October 7, 2003. Repeat the inspection thereafter at intervals not to exceed 800 flight hours. Accomplishment of this inspection terminates the repetitive inspections required by paragraphs (f)(1) and (f)(2) of this AD.

(h) Airplanes on which the inspection required by paragraph (g) of this AD is done within the compliance time specified in paragraph (f) of this AD are not required to accomplish the inspection required by paragraph (f) of this AD.

Alternative Methods of Compliance (AMOCs)

(i) The Manager, International Branch, ANM-116, Transport Airplane Directorate, FAA, has the authority to approve AMOCs for this AD, if requested in accordance with the procedures found in 14 CFR 39.19.

Related Information

(j) Swedish airworthiness directive 1-193, dated October 8, 2003, also addresses the subject of this AD.

Issued in Renton, Washington, on March 7, 2005.
Ali Bahrami,
Manager, Transport Airplane Directorate, Aircraft Certification Service.

[FR Doc. 05-5013 Filed 3-14-05; 8:45 am]

BILLING CODE 4910-13-P